COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by nonprofit agencies employing persons who are blind or have other severe disabilities, and deletes products and a service from the Procurement List previously furnished by such agencies.

DATES: Date added to and deleted from the Procurement List: March 29, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

On 1/3/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names:

7530-00-NIB-1274—Surface Safe Sign Label, Removable, Laser/Inkjet, White, 3-1/2″ x 5″, 15 Sheets

7530-00-NIB-1275—Surface Safe Sign Label, Removable, Laser/Inkjet, White, 5″ x 7″, 15 Sheets

7530-00-NIB-1276—Surface Safe Sign Label, Removable, Laser/Inkjet, White, 7″ x 10″, 15 Sheets

7530-00-NIB-1277—Surface Safe Sign Label, Removable, Laser/Inkjet, White, 8″ x 8″, 15 Sheets

7530-00-NIB-1220—Labels, Self-Laminating, Laser/Inkjet, White, 2-5/16″ x 3-5/16″, 25 Sheets

7530-00-NIB-1223—Labels, Self-Laminating, Laser/Inkjet, White, 1-1/32″ x 3-1/2″, 25 Sheets

7530-00-NIB-1278—Business Cards, Uncoated, Two-Sided Printing, White, 2″ x 3-1/2″, 200 Cards

7530-00-NIB-1287—Business Cards, Uncoated, Two-Sided Printing, White, 2″ x 3-1/2″, 1000 Cards

7530-00-NIB-1279—Tent Cards, Uncoated, Embossed, Two-Sided Printing, White, 3-1/2″ x 11″, 50 Cards

7530-00-NIB-1280—Tent Cards, Uncoated, Embossed, Two-Sided Printing, White, 2-1/2″ x 8-1/2″, 100 Cards

7530-00-NIB-1270—Name Badge, Laser/Inkjet, 2-1/3″ x 3-3/8″, White, 50 Sheets

Mandatory Source of Supply: North Central Sight Services, Inc., Williamsport, PA

Mandatory For: Total Government Requirement

Contracting Activity: FEDERAL ACQUISITION SERVICE, GSA/FAS ADMIN SVCS ACQUISITION BR(2

Deletions

On 1/17/2020 and 1/24/2020, the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN—Product Name:

3990CAAA9243—Pallet, Demo, Sideboard, 30″ x 44”

Mandatory Source of Supply: Bona Vista Programs, Inc., Kokomo, IN

Contracting Activity: W39Z STK REC ACCT-CRANE AAP, CRANE, IN

NSNs—Product Names:

8125-00-NIB-0041—Spray Bottle, BioRenewables Restroom Cleaner, Silk Screened, 8 oz, 12/BX

8125-00-NIB-0024—Tribase multi purpose silk screened 8oz bottle, 12/BX

8125-00-NIB-0025—Glass cleaner silk screened 8oz bottle, 12/BX

8125-00-NIB-0026—Neutral Disinfectant silk screened 8oz bottle, 12/BX

8125-00-NIB-0027—Industrial cleaner silk screened 8oz bottle, 12/BX

Mandatory Source of Supply: VisionCorps, Lancaster, PA

Contracting Activity: CENTRAL OFFICE, WASHINGTON, DC

Services

Service Type: Janitorial/Custodial

Mandatory for: Veterans Administration Medical Center: 2600 M. L. King, Jr. Parkway, Des Moines, IA

Mandatory Source of Supply: Goodwill Solutions, Inc., Johnston, IA

Contracting Activity: VETERANS AFFAIRS, DEPARTMENT OF, NAC

Patricia Briscoe,
Deputy Director, Business Operations (Pricing and Information Management).

[FR Doc. 2020-04114 Filed 2-27-20; 8:45 am]

BILLING CODE 6353-01-P